DEPARTMENT OF COMMERCE

National Oceanic and Atmospheric Administration

RIN: 0648-XK93

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Golden Tilefish Limited Access Privilege (LAPP) Exploratory Workgroup in North Charleston, SC.

DATES: The meeting will take place October 28-30, 2008. See SUPPLEMENTARY INFORMATION for specific dates and times.

ADDRESSES: The meeting will be held at the South Atlantic Fishery Management Council Office, 4055 Faber Place Drive, Suite 201, North Charleston, SC 29406.

FOR FURTHER INFORMATION CONTACT: Kim Iverson, Public Information Officer, South Atlantic Fishery Management Council, 4055 Faber Place Drive, Suite 201, North Charleston, SC, 29405; telephone: (843) 571-4366 or toll free (866) SAFMC-10; fax: (843) 769-4520; email: kim.iverson@safmc.net.

SUPPLEMENTARY INFORMATION: The Workgroup meeting will take place from 1 p.m. - 5 p.m. on October 28, 2008, 8:30 a.m. until 5 p.m. on October 29, 2008, and from 8:30 a.m. - 12 noon on October 30, 2008.

The Council recently formed a Golden Tilefish LAPP Exploratory Workgroup to investigate the possible use of LAPPs or other programs for the commercial golden tilefish fishery. The Workgroup consists of fishermen involved in this deepwater fishery from the South Atlantic region. During this initial meeting of the Workgroup, members will receive a presentation on LAPPs, discuss problems and issues currently affecting the golden tilefish fishery, and possible solutions.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305 (c) of the Magnuson-Stevens Act, provided the public has been notified of the Council's intent to take final action to address the emergency.

Special Accommodation

This meeting is physically accessible to people with disabilities. Requests for auxiliary aids should be directed to the council office (see ADDRESSES) 3 days prior to the meetings.

Note: The times and sequence specified in this agenda are subject to change.

Dated: October 2, 2008.
Tracey L. Thompson,
Acting Director, Office of Sustainable Fisheries, National Marine Fisheries Service.

[FR Doc. E8-23626 Filed 10-6-08; 8:45 am]

BILLING CODE 3510-22-S